DEPARTMENT OF AGRICULTURE

Submission for OMB Review; Comment Request

The Department of Agriculture will submit the following information collection requirement(s) to OMB for review and clearance under the Paperwork Reduction Act of 1995, Public Law 104-13 on or after the date of publication of this notice. Comments are requested regarding: whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology Comments regarding these information collections are best assured of having their full effect if received by February 27, 2023. Written comments and recommendations for the proposed information collection should be submitted within 30 days of the publication of this notice on the following website www.reginfo.gov/public/do/PRAMain. Find this particular information collection by selecting “Currently under 30-day Review—Open for Public Comments” or by using the search function

An agency may not conduct or sponsor a collection of information unless the collection of information displays a currently valid OMB control number and the agency informs potential persons who are to respond to the collection of information that such persons are not required to respond to the collection of information unless it displays a currently valid OMB control number.

Agricultural Marketing Service

Title: Local Food Directories and Survey (formerly Farmers Market Directory and Survey).

OMB Control Number: 0581-0169.

Summary of Collection: Under the Agricultural Marketing Act of 1946, as amended (7 U.S.C. 1621 et seq.), AMS is responsible for conducting research to enhance market access for small- and medium-sized farmers. To facilitate distribution of U.S. agricultural products, MSD identifies marketing opportunities; provides analysis to help take advantage of those opportunities; and develops and evaluates solutions, including improving farmers markets and other direct-to-consumer marketing activities. Various types of direct-to-customer local food enterprises serve different parts of the food marketing chain but all focus on the small-to medium-sized agricultural producers that have difficulty obtaining access to large scale commercial distribution channels.

Need and Use of the Information: This collection gathers the information necessary to populate the four direct to customer directories contained in USDA's Local Food Directories. USDA's: National Farmers Market, National CSA, National Food Hub and National On-Farm Market Directories. These directories provide free advertising to the operators of these four direct to customer marketing channels. Approximately 5,000 directory updates occur annually. In addition, this collection enables a comprehensive survey of farmers market sector with USDA's National Farmers Market Managers Survey.

Description of Respondents: Businesses or other for-profits; Farms; Individuals or Households.

Number of Respondents: 66,250.

Frequency of Responses: Reporting: Annual; On occasion.

Total Burden Hours: 2,069.

Levi S. Harrell,
Departmental Information Collection Clearance Officer.

[FR Doc. 2023-01532 Filed 1-25-23; 8:45 am]

BILLING CODE 3410-02-P